ENVIRONMENTAL PROTECTION AGENCY

40 CFR Part 52

[NM39-2-7452; FRL-6542-7]

Approval and Promulgation of Implementation Plans; State of New Mexico; Approval of Motor Vehicle Emissions Budget; Albuquerque/Bernalillo County, New Mexico; Carbon Monoxide

AGENCY: Environmental Protection Agency (EPA).

ACTION: Proposed rule.

SUMMARY: The EPA is proposing approval of a revision to the Albuquerque/ Bernalillo County carbon monoxide (CO) State Implementation Plan (SIP). The Governor of New Mexico requested EPA approval of the revision on February 4, 1999. The Governor requested approval of a CO motor vehicle emissions budget for the year 2010. This action proposes to approve only the CO Motor Vehicle Emissions Budget for 2010. This CO Motor Vehicle Emissions Budget is for transportation conformity purposes.

DATES: Comments must be received on or before March 29, 2000.

ADDRESSES: You should address comments on this action to Mr. Thomas Diggs, EPA Region 6, Air Planning Section (6PD-L), 1445 Ross Avenue, Suite 1200, Dallas, Texas 75202. Copies of all materials considered in this rule making, including the technical support document may be examined during normal business hours at the following locations: EPA Region 6 offices, 1445 Ross Avenue, Suite 700, Dallas, Texas 75202, and the Albuquerque Environmental Health Department, Air Pollution Control Division, One Civic Plaza Room 3023, Albuquerque, New Mexico 87102. If you plan to view the documents at either location, please call 48 hours ahead of the time you plan to arrive.

FOR FURTHER INFORMATION CONTACT: Mr. Matthew Witosky of the EPA Region 6 Air Planning Section, at (214) 665-7214, or WITOSKY.MATTHEW@EPA.GOV,

SUPPLEMENTARY INFORMATION:

Overview

The information in this section is organized as follows:

1. What action is the EPA taking today?

2. Why must the EPA approve an additional MVEB?

3. Why is Albuquerque setting a budget for a year beyond the current maintenance plan?

4. Do other emissions grow in the same time period? a. Why are projected highway mobile emissions in Table 2 different than the MVEB in Table 1?

5. How is Albuquerque protecting air quality, if they are increasing the amount of mobile emissions allowed in the region?

6. Under what authority does Albuquerque revise the plan?

7. How is this action related to the direct final rule, published December 20, 1999, revising the MVEB and CO maintenance plan?

1. What Action Is the EPA Taking Today?

The EPA proposes approval of a revision to the Albuquerque and Bernalillo County CO SIP. Hereafter, Albuquerque and Bernalillo County will be referred to as “Albuquerque.” Albuquerque requested approval of a motor vehicle emissions budget (MVEB) for the year 2010. The EPA proposes approval of this budget of 222.46 tpd. This budget is applicable for 2010, four years beyond the end of the current maintenance plan. This budget is an addition to the MVEB's approved in the maintenance plan.

Table 1—Albuquerque Approved CO Motor Vehicle Emissions Budget (MVEB)
[In tons per day]
Year | 2010
MVEB | 222.46

2. Why Must the EPA Approve an Additional MVEB?

The Federal Clean Air Act as Amended in 1990 (the Act), and the conformity rules, provide that the EPA must approve MVEB's for areas in maintenance. Albuquerque received redesignation to attainment and entered the maintenance period in 1996. Their initial maintenance plan, from 1996 to 2006, was approved at 61 FR 29970, and revised at 64 FR 71027, December 20, 1999. The MVEB for each year before 2010 was approved in the December 20, 1999, notice approving the maintenance plan revision. It should be noted that the 2006 budget and this budget for 2010 could be revised again in 2004, when Albuquerque is required to revise the 10 year maintenance plan.

3. Why Is Albuquerque Setting a Budget for a Year Beyond the Current Maintenance Plan?

The Metropolitan Planning Organization for the Albuquerque area must develop transportation improvement plans covering 20 years, to receive federal funding for projects. Since the budget set for 2006 is the last budget approved by the EPA, it is the applicable budget for plans that contemplate projects from 2006 and later. Albuquerque indicated that growth in vehicle emissions will grow beyond the budget set for 2006, totaling 214.48 tons per day, by 2010. This additional budget will set the budget for 2010 and later, making it the applicable budget for transportation conformity determinations for 2010 and later.

4. Do Other Emissions Grow in the Same Time Period?

Albuquerque provided emission projections for all four emissions categories, to 2010. The figures for 2010 were estimated by applying growth factors to the totals established in 2006. Albuquerque used the same technique to calculate the figures for 2010, as were used in the maintenance plan. Table 2 below is a summary of these projections, provided to show how the emissions are added up, to project area-wide emissions.

Table 2—Albuquerque Carbon Monoxide Emissions in Tons Per Day (tpd): Maintenance Plan and 2010 Projections
Category | Stationary | Highway mobile | Off-road mobile | Area | Total
Maintenance Plan 1996 | 3.92 | 266.99 | 50.90 | 67.19 | 389.00
Maintenance Plan 200 | 627.72 | 205.86 | 56.84 | 76.09 | 366.51
Projections 2010 | 27.91 | 214.48 | 59.22 | 79.41 | 381.02

a. Why Are Projected Highway Mobile Emissions in Table 2 Different Than the MVEB in Table 1?

The projections in Table 2 for 2010 are a projected inventory. Albuquerque calculated that on-road emissions will grow to 214.48 tpd, and all other emissions will grow to 166.4 tpd. Table 1 is a budget. Albuquerque has elected to allocate a margin for additional growth, making the MVEB 222.46 tpd.

5. How Is Albuquerque Protecting Air Quality, if They Are Increasing the Amount of Mobile Emissions Allowed in the Region?

Table 2 above illustrates that overall emissions will remain at or below the attainment-year level of 389 tpd in 1996, even if highway emissions grow faster than projected. In addition, Albuquerque's maintenance plan requires the Air Board to consider implementing the maintenance plan contingency measures if Albuquerque projects that emissions will breach 389 tpd. In the event that monitored CO levels violated the standard, these contingency measures would be implemented without further action from the Air Board. These contingency measures are intended to bring the area back into attainment.

6. Under What Authority Does Albuquerque Revise the Plan?

The Act allows Albuquerque to change the approved MVEB in the SIP, provided that the budget continues to provide for attainment. In this case, emissions must remain at or below the estimated emissions in the year the area attained the standard, 389 tpd in 1996. As shown in Table 2, emissions are projected to remain below 389 tpd. Even if highway mobile emissions reached the budget level of 222.46, total emissions would remain equal to 389, allowing the area to remain in attainment. It is noted that if the area later determines that emissions will surpass 389 tpd through 2016, Albuquerque will be required to demonstrate with air quality modeling and monitoring data, that this increase will not result in a failure to maintain the standard.

7. How Is This Action Related to the Direct Final Rule, Published December 20, 1999, Revising the MVEB and CO Maintenance Plan?

The EPA published a direct final rule approving a revision to the CO maintenance plan, and MVEB's up to 2006. That action was published December 20, 1999, at 64 FR 71027. The EPA used a direct final action, because we anticipated no adverse comments. A proposed rule, 64 FR 71086, was published the same day in the same issue of the Federal Register, stating that if EPA received adverse comments we would address them in a subsequent final rule, after a withdrawal of the direct final rule. The EPA received adverse comments, and issued a withdrawal notice. The withdrawal notice stated that EPA would address comments in a subsequent final rule based on the December 20, 1999, proposed rule.

Hence, comments submitted on the proposed rule, issed December 20, 1999 (64 FR 71086), and this proposed rule will be addressed together in a subsequent final rule. The EPA has elected to combine responses to the rules because the revision to the maintenance plan, MVEB's from 1996 to 2006, and the out-year MVEB for 2010 were submitted at the same time, and involve substantially the same analysis.

Proposed Action

The EPA is proposing to approve a CO motor vehicle emissions budget for 2010. This budget will be used for conformity purposes.

Administrative Requirements

A. Executive Order 12866

The Office of Management and Budget (OMB) has exempted this regulatory action from Executive Order 12866, entitled “Regulatory Planning and Review.”

B. Executive Order 13132

Executive 13132, entitled “Federalism” (64 FR 43255, August 10, 1999) revokes and replaces Executive Order 12612, “Federalism,” and Executive Order 12875, “Enhancing the Intergovernmental Partnership.” Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. The EPA also may not issue a regulation that has federalism implications and that preempts State law unless the Agency consults with State and local officials early in the process of developing the proposed regulation.

This proposed rule will not have substantial direct effects on the States, on the relationship between the national government and the States, or on the distribution of power and responsibilities among the various levels of government, as specified in Executive Order 13132, because it merely approves a State rule implementing a Federal standard, and does not alter the relationship or the distribution of power and responsibilities established in the Act. Thus, the requirements of section 6 of the Executive Order do not apply to this rule.

C. Executive Order 13045

Executive Order 13045, entitled “Protection of Children from Environmental Health Risks and Safety Risks” (62 FR 19885, April 23, 1997), applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Order has the potential to influence the regulation. This proposed rule is not subject to Executive Order 13045 because it approves a State program.

D. Executive Order 13084

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the OMB, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian tribes. Accordingly, the requirements of section 3(b) of Executive Order 13084 do not apply to this rule.

E. Regulatory Flexibility Act

The Regulatory Flexibility Act, 5 U.S.C. 600 et seq., generally requires an agency to conduct a regulatory flexibility analysis of any rule subject to notice and comment rulemaking requirements unless the agency certifies that the rule will not have a significant economic impact on a substantial number of small entities. Small entities include small businesses, small not-for-profit enterprises, and small governmental jurisdictions. This proposed rule will not have a significant impact on a substantial number of small entities because SIP approvals under section 110 and subchapter I, part D of the Act do not create any new requirements but simply approve requirements that the State is already imposing. Therefore, because the Federal SIP approval does not create any new requirements, I certify that this action will not have a significant economic impact on a substantial number of small entities. Moreover, due to the nature of the Federal-State relationship under the Act, preparation of a flexibility analysis would constitute Federal inquiry into the economic reasonableness of state action. The Act forbids EPA to base its actions concerning SIPs on such grounds. See Union Electric Co., v. U.S. EPA, 427 U.S. 246, 255-66 (1976); 42 U.S.C. 7410(a)(2).

F. Unfunded Mandates

Under section 202 of the Unfunded Mandates Reform Act of 1995, signed into law on March 22, 1995, EPA must prepare a budgetary impact statement to accompany any proposed or final rule that includes a Federal mandate that may result in estimated annual costs to State, local, or tribal governments in the aggregate; or to private sector, of $100 million or more. Under section 205, EPA must select the most cost-effective and least burdensome alternative that achieves the objectives of the rule and is consistent with statutory requirements. Section 203 requires EPA to establish a plan for informing and advising any small governments that may be significantly or uniquely impacted by the rule.

The EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

List of Subjects in 40 CFR Part 52

Environmental protection, Air pollution control, Carbon monoxide.

Authority: 42 U.S.C. 7401 et seq.

Dated: February 15, 2000.
Gregg A. Cooke,
Regional Administrator, Region 6.

[FR Doc. 00-4655 Filed 2-25-00; 8:45 am]

BILLING CODE 6560-50-U